DEPARTMENT OF COMMERCE

National Oceanic and Atmospheric Administration

RIN 0648-XD085

Gulf of Mexico Fishery Management Council; Public Meeting

AGENCY: National Marine Fisheries Service (NMFS), National Oceanic and Atmospheric Administration (NOAA), Commerce.

ACTION: Notice of public meetings.

SUMMARY: The Gulf of Mexico Fishery Management Council (Council) will hold meetings of the Administrative Policy, Outreach and Education, Shrimp, Sustainable Fisheries/Ecosystem, Reef Fish, Mackerel, and Gulf SEDAR Management Committees; and a meeting of the Full Council. The Council will also hold an informal public question and answer session regarding agenda items and a formal public comment session.

DATES: The Council meeting will be held from 8:30 a.m. on Monday, February 3 until 4:30 p.m. on Thursday, February 6, 2014.

ADDRESSES: Meeting address: The meeting will be held at the Westin Galleria Hotel, 5060 W. Alabama Street, Houston, TX 77056; telephone: (713) 960-8100.

Council address: Gulf of Mexico Fishery Management Council, 2203 North Lois Avenue, Suite 1100, Tampa, FL, 33607.

FOR FURTHER INFORMATION CONTACT: Mr. Douglas Gregory, Executive Director, Gulf of Mexico Fishery Management Council; telephone: (813) 348-1630; fax: (813) 348-1711; email: doug.gregory@gulfcouncil.org.

SUPPLEMENTARY INFORMATION: The items of discussion for each individual management committee agenda are as follows:

Administrative Policy Committee, Monday, February 3, 2014, 8:30 a.m. until 10:30 a.m.

Review of Draft Revised Administrative Handbook

Outreach and Education Committee, Monday, February 3, 2014, 10:30 a.m. until 12 noon.

1. Review of Stakeholder Communication Survey Results

2. Summary of December 6, 2013 Outreach and Education Advisory Panel Webinar

3. Review of Gulfwide Recreational Angler Participation Sessions

Full Council—(Closed Session), Monday, February 3, 2014, 1:30 p.m. until 2 p.m.

1. Report from NOAA General Counsel

2. Appointment of member to Ad Hoc Artificial Substrate Advisory Panel

Shrimp Management Committee, Monday, February 3, 2014, 2 p.m. until 3 p.m.

1. Review of Draft Options Paper for Shrimp Amendment 15—Status Determination Criteria for Penaeid Shrimp and Adjustments to the Shrimp FMP Framework Procedure

2. Discussion of ACL Adjustment and Accountability Measures for Royal Red Shrimp

Sustainable Fisheries/Ecosystem Management Committee, Monday, February 3, 2014, 3 p.m. until 4 p.m.

1. Scientific and Statistical Committee Recommendations and Discussion of Draft Framework Action—Update Tier 3 ACLS with Revised MRIP Landings

2. Discussion of Draft Framework Action to Define For-Hire Fishing in the Gulf of Mexico EEZ

Reef Fish Management Committee, Monday, February 3, 2014, 4 p.m. until 5 p.m. and Tuesday, February 4, 2014, 8:30 a.m. until 5:30 p.m.

1. Summary of the Joint Council Committee on South Florida Management Issues and the Ad Hoc Goliath Grouper Joint Council Steering Committee meetings.

2. NMFS Update on Current MRIP Estimates

3. Discussion of Public Hearing Draft Amendment 28—Red Snapper Allocation Analysis

4. Report of the Ad Hoc Red Snapper IFQ Advisory Panel

5. Discussion of Amendment 39—Recreational Red Snapper Regional Management

6. Discussion of Amendment 40 Options Paper—Sector Separation

7. Discussion on Final Action of Framework Action to Rescind Amendment 30B Permit Conditions

8. Discussion of Standing and Reef Fish Scientific and Statistical Committee Report

9. Discussion on Exempted Fishing Permits Related to Reef Fish

—Recess—

Immediately following recess will be the Informal Question & Answer Session on Gulf of Mexico fishery management issues.

Mackerel Management Committee, Wednesday, February 5, 8:30 a.m. until 11 a.m.

1. Final Action on CMP Amendment 20B Boundaries and Transit Provisions

2. Discussion of Options Paper for 2014 Joint Framework Action to Modify Spanish Mackerel ACL/ACT

3. Discussion of Purpose and Timing of Scoping Document for CMP Amendment 24—Reallocation of Gulf King Mackerel and Atlantic Spanish Mackerel

4. Discussion of Purpose and Timing of Scoping Document for CMP Amendment 26—Split Permits between the Gulf and South Atlantic for Spanish and King Mackerel

Gulf SEDAR Committee, Wednesday, February 5, 2014, 11 a.m. until 12 noon

1. Update on SEDAR 33: Gulf of Mexico Gag and Greater Amberjack

2. Update on SEDAR 38: Gulf of Mexico and South Atlantic King Mackerel

3. Update on SEDAR Steering Committee

4. Review of SEDAR Schedule

Council Session Agenda, Wednesday, February 5, 2014, 1:30 p.m. until 5:30 p.m.

1:30 p.m.-1:45 p.m.: Call to Order and Introductions, Adoption of Agenda and Approval of Minutes.

1:45 p.m.-4:30 p.m.: The Council will receive public testimony on Final Action—Mackerel Amendments 20B—Boundaries and Transit Provisions and on Final Action—Framework Action to Rescind Amendment 30B Permit Conditions. The Council will also hold an open public comment period regarding any other fishery issues or concerns. People wishing to speak before the Council should complete a public comment card prior to the comment period.

4:30 p.m.-4:45 p.m.: The Council will review and vote on Exempted Fishing Permits (EFP), if any.

4:45 p.m.-5:15 p.m.: The Council will receive a committee report from the Outreach and Education Management Committee.

5:15 p.m.-5:30 p.m.: The Council will receive a committee report from the Shrimp Management Committee.

Council Session Agenda, Thursday, February 6, 2014, 8:30 a.m. until 4:30 p.m.

8:30 a.m.-11:30 a.m.: The Council will receive a committee report from the Reef Fish Management Committee.

1 p.m.-1:30 p.m.: The Council will receive a committee report from the Sustainable Fisheries/Ecosystem Management Committee.

1:30 p.m.-2:30 p.m.: The Council will receive a committee report from the Mackerel Management Committee.

2:30 p.m.-3:30 p.m.: The Council will receive a committee report from the Administrative Policy Management Committee.

3:30 p.m.-4 p.m.: The Council will receive a committee report from the Gulf SEDAR Management Committee.

4 p.m.-4:30 p.m.: The Council will review Other Business items: Summary of Electronic Monitoring meeting, MREP Summary, and Discussion on the Reauthorization of the Magnuson-Stevens Fishery Conservation and Management Act.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: January 13, 2014.
Tracey L. Thompson,
Acting Deputy Director, Office of Sustainable Fisheries, National Marine Fisheries Service.

[FR Doc. 2014-00736 Filed 1-15-14; 8:45 am]

BILLING CODE 3510-22-P